DEPARTMENT OF HOMELAND SECURITY

Coast Guard

33 CFR Part 165

[Docket No. USCG-2016-0476]

Safety Zones, Recurring Marine Events in Captain of the Port Long Island Sound Zone

AGENCY: Coast Guard, DHS.

ACTION: Notice of enforcement of regulation.

SUMMARY: The Coast Guard will enforce four safety zones for fireworks displays in the Sector Long Island Sound area of responsibility on the date and time listed in the table below. This action is necessary to provide for the safety of life on navigable waterways during the events. During the enforcement periods, no person or vessel may enter the safety zones without permission of the Captain of the Port (COTP) Sector Long Island Sound or designated representative.

DATES: The regulation in 33 CFR 165.151 Table 1 will be enforced on the dates and times listed in the table in the SUPPLEMENTARY INFORMATION section.

FOR FURTHER INFORMATION CONTACT: If you have questions on this notice of enforcement, call or email Petty Officer Jay TerVeen, Waterways Management Division, U.S. Coast Guard Sector Long Island Sound; telephone 203-468-4446, email Jay.C.TerVeen@uscg.mil.

SUPPLEMENTARY INFORMATION: The Coast Guard will enforce the safety zone listed in 33 CFR 165.151 Table 1 on the following dates and times:

6.1 Barnum Festival Fireworks | • Date: June 25, 2016.
| • Rain Date: June 26, 2016.
| • Time: 8:30 p.m. to 10:30 p.m.
| • Location: Waters of Bridgeport Harbor, Bridgeport, CT in approximate position 41°9′04″ N., 073°12′49″ W. (NAD 83).
6.2 Town of Branford Fireworks | • Date: June 25, 2016.
| • Rain Date: June 26, 2016.
| • Time: 9:30 p.m. to 10:30 p.m.
| • Location: Waters of Branford Harbor, Branford, CT in approximate position, 41°15′30″ N., 072°49′22″ W. (NAD 83).
6.3 Vietnam Veterans/Town of East Haven Fireworks | • Date: June 25, 2016.
| • Rain Date: June 27, 2016.
| • Time: 9:00 p.m. to 11:00 p.m.
| • Location: Waters off Cosey Beach, East Haven, CT in approximate position, 41°14′19″ N., 072°52′9.8″ W. (NAD 83).
7.8 Westport Police Athletic League Fireworks | • Date: June 30, 2016.
| • Rain Date: July 01, 2016.
| • Time: 8:45 p.m. to 10:20 p.m.
| • Location: Waters off Compo Beach, Westport, CT in approximate position, 41°06′15″ N., 073°20′57″ W. (NAD 83).

Under the provisions of 33 CFR 165.151, the fireworks displays listed above are established as safety zones. During the enforcement period, persons and vessels are prohibited from entering into, transiting through, mooring, or anchoring within these safety zones unless they receive permission from the COTP or designated representative.

This notice of enforcement is issued under authority of 33 CFR part 165 and 5 U.S.C. 552(a). In addition to this notice of enforcement in the Federal Register, the Coast Guard will provide the maritime community with advance notification of this enforcement period via the Local Notice to Mariners or marine information broadcasts. If the COTP determines that these safety zones need not be enforced for the full duration stated in this notice of enforcement, a Broadcast Notice to Mariners may be used to grant general permission to enter the regulated area.

Dated: June 3, 2016.
E.J. Cubanski, III,
Captain, U.S. Coast Guard, Captain of the Port Sector Long Island Sound.

[FR Doc. 2016-14272 Filed 6-15-16; 8:45 am]

BILLING CODE 9110-04-P